DEPARTMENT OF THE INTERIOR

Bureau of Ocean Energy Management

[Docket No. BOEM-2016-0068]

Draft Programmatic Environmental Impact Statement for Geological and Geophysical Activities on the Gulf of Mexico Outer Continental Shelf (OCS) MMAA104000

AGENCY: Bureau of Ocean Energy Management (BOEM), Interior.

ACTION: Notice of availability.

SUMMARY: BOEM has prepared a Draft Programmatic Environmental Impact Statement (PEIS) to evaluate potential environmental effects of multiple Geological and Geophysical (G&G) activities on the Gulf of Mexico OCS. These activities include, but are not limited to, seismic surveys, sidescan-sonar surveys, electromagnetic surveys, and geological and geochemical sampling. The Draft PEIS considers G&G activities for the three program areas managed by BOEM: Oil and gas exploration and development; renewable energy; and marine minerals. This notice initiates the public review and comment period and also serves to announce public meetings on the Draft PEIS. After the public meetings and written comments on the Draft PEIS have been reviewed and considered, a Final PEIS will be prepared.

A Notice of Intent (NOI) to prepare the PEIS was published in the Federal Register on May 10, 2013, and scoping comments were received during a comment period that was initially scheduled to close on June 24, 2013. The closing date of the public comment period was corrected to July 9, 2013, by publication of a Federal Register Notice on June 5, 2013.

DATES: Comments on this Draft PEIS will be accepted until November 29, 2016. BOEM has determined that a 60-day public comment period is warranted given the complex and technical nature of this Draft PEIS along with possible requests for extending the comment period. Additionally, due to litigation deadlines, no more than 60-days for public comment will be granted. See public meeting dates in the SUPPLEMENTARY INFORMATION section below.

FOR FURTHER INFORMATION CONTACT: Jill Lewandowski, Ph.D., Chief, Division of Environmental Assessment, Office of Environmental Programs, Bureau of Ocean Energy Management, 45600 Woodland Road, VAM-OEP, Sterling, VA 20166 or by email at gomggeis@boem.gov.

SUPPLEMENTARY INFORMATION:

Public Availability: In keeping with the Department of the Interior's mission to protect natural resources and to limit costs, while ensuring availability to the public, the Draft PEIS and associated information are available on BOEM's Web site at http://www.boem.gov/nepaprocess/. BOEM will also distribute digital copies of the Draft PEIS on compact discs. BOEM will also be printing and distributing a very limited number of paper copies. You may request a digital or paper copy of the Draft PEIS from the Bureau of Ocean Energy Management, Gulf of Mexico OCS Region, Public Information Office (GM 250C), 1201 Elmwood Park Boulevard, Room 250, New Orleans, Louisiana 70123-2394 (1-800-200-GULF).

Comments: Governmental agencies, Native American tribes, the scientific community, industry groups, environmental interest groups, and any other interested parties may submit written comments on Draft PEIS through the following methods:

1. Federal eRulemaking Portal: http://www.regulations.gov. In the field entitled “Search,” enter “BOEM” and then click “search.” Follow the instructions to submit public comments and view supporting and related materials available for this notice;

2. U.S. mail in an envelope labeled “Comments on the Draft Programmatic Environmental Impact Statement” and addressed to Ms. Jill Lewandowski, Ph.D., Chief, Division of Environmental Assessment, Office of Environmental Programs, Bureau of Ocean Energy Management, 45600 Woodland Road, VAM-OEP, Sterling, VA 20166. Comments must be postmarked by the last day of the comment period to be considered.

3. Via electronic mail to gomggeis@boem.gov.

Public Meetings: BOEM will also hold public meetings to solicit comment regarding the Draft Programmatic Environmental Impact Statement. The meetings are scheduled as follows:

• New Orleans, Louisiana: Wednesday, November 9, 2016, Wyndham Garden New Orleans Airport, 6401 Veterans Memorial Boulevard, Metairie, Louisiana 70003; one meeting beginning at 4:00 p.m. CST and ending at 7:00 p.m. CST;

• Gulfport, Mississippi: Thursday, November 10, 2016, Courtyard by Marriott, Gulfport Beachfront MS Hotel, 1600 East Beach Boulevard, Gulfport, Mississippi 39501; one meeting beginning at 4:00 p.m. CST and ending at 7:00 p.m. CST;

• Fort Walton Beach, Florida: Monday, November 14, 2016, Four Points By Sheraton Destin-Fort Walton Beach, 1325 Miracle Strip Parkway SE., Fort Walton Beach, Florida 32548; one meeting beginning at 4:00 p.m. CST and ending at 7:00 p.m. CST;

• Mobile, Alabama: Tuesday, November 15, 2016, The Admiral Hotel Mobile, Curio Collection by Hilton, 251 Government Street, Mobile, Alabama 36602; one meeting beginning at 4:00 p.m. CST and ending at 7:00 p.m. CST; and

• Houston, Texas: Thursday, November 17, 2016, Houston Marriott North, 255 North Sam Houston Pkwy. East, Houston, Texas 77060; one meeting beginning at 4:00 p.m. CST and ending at 7:00 p.m. CST.

Public Disclosure of Names and Addresses: Before including your address, phone number, email address, or other personal identifying information in your comment, you should be aware that your entire comment, including your personal identifying information, may be made publicly available at any time. While you can ask us in your comments to withhold your personal identifying information from public review, we cannot guarantee that we will be able to do so.

Authority: This Notice of Availability is published pursuant to the regulations (40 CFR part 1503 and 43 CFR part 46) implementing the provisions of the National Environmental Policy Act of 1969, as amended (42 U.S.C. 4321 et seq. (1988)).

Dated: September 22, 2016.
Abigail Ross Hopper,
Director, Bureau of Ocean Energy Management.

[FR Doc. 2016-23664 Filed 9-29-16; 8:45 am]

BILLING CODE 4310-MR-P